DEPARTMENT OF COMMERCE

Foreign-Trade Zones Board

[B-59-2018]

Foreign-Trade Zone 122—Corpus Christi, Texas; Application for Subzone; Gulf Coast Growth Ventures LLC; San Patricio County, Texas

An application has been submitted to the Foreign-Trade Zones (FTZ) Board by the Port of Corpus Christi Authority, grantee of FTZ 122, requesting subzone status for the facilities of Gulf Coast Growth Ventures LLC, located in San Patricio County, Texas. The application was submitted pursuant to the provisions of the Foreign-Trade Zones Act, as amended (19 U.S.C. 81a-81u), and the regulations of the FTZ Board (15 CFR part 400). It was formally docketed on September 25, 2018.

The proposed subzone would consist of the following sites in San Patricio County: Site 1 (1,351 acres)—Main Site, 4589 FM 2986, Gregory; and, Site 2 (9.2 acres)—Laydown Yard, located south of Voestalpine Texas LLC on Kay Bailey Hutchison Road, east of Northshore Country Club's eastern boundary and Berryman Properties, and northwest of the Voestalpine West Dock. A notification of proposed production activity has been submitted and will be published separately for public comment.

In accordance with the FTZ Board's regulations, Camille Evans of the FTZ Staff is designated examiner to review the application and make recommendations to the FTZ Board.

Public comment is invited from interested parties. Submissions shall be addressed to the FTZ Board's Executive Secretary at the address below. The closing period for their receipt is November 13, 2018. Rebuttal comments in response to material submitted during the foregoing period may be submitted during the subsequent 15-day period to November 26, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: September 25, 2018.
Andrew McGilvray,
Executive Secretary.

[FR Doc. 2018-21323 Filed 9-28-18; 8:45 am]

BILLING CODE 3510-DS-P